DEPARTMENT OF THE INTERIOR

Fish and Wildlife Service

[FWS-HQ-MB-2017-N166; FF09M21200-167-FXMB1231099BPP0; OMB Control Number 1018-0103]

Agency Information Collection Activities; Submission to the Office of Management and Budget for Review and Approval; Conservation Order for Light Geese

AGENCY: Fish and Wildlife Service, Interior.

ACTION: Notice of information collection; request for comment.

SUMMARY: In accordance with the Paperwork Reduction Act of 1995, the U.S. Fish and Wildlife Service (Service, we), are proposing to renew an information collection with revisions.

DATES: Interested persons are invited to submit comments on or before January 22, 2018.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number 1018-0103 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on July 3, 2017 (82 FR 30883). The following comments were received:

Comment 1: The Central Flyway Council commented that a single survey conducted by Service is the most appropriate and accurate method for annually monitoring the participation and harvest in the light goose conservation order. This approach has been used by the Service since 1960 to monitor waterfowl harvest nationally for regular hunting seasons.

Agency Response to Comment 1: With regard to the Central Flyway proposal to implement a single, uniform survey conducted by the Service, during discussions with Flyway Councils regarding initiation of the conservation order in the late 1990s there were concerns about whether or not a national information collection should be developed for the conservation order. That approach was not pursued due to the need to develop a new Federal permit, which we continue to believe is not a feasible alternative at this time. It was decided that each State would conduct its own information collection. Although State harvest estimates may not be fully comparable due to differences in methodology, we believe that summation of such estimates is warranted for general monitoring purposes. Furthermore, our existing Harvest Information Program (HIP) is geared towards estimating harvest of birds during regular hunting seasons that end on or before March 10 each year. Many States hold their light goose conservation order (not a regular hunting season) after March 10. Therefore, if HIP was used to estimate light goose conservation order harvest, our annual HIP reports would be delayed and could affect the normal hunting regulations promulgation process. The Service can only require HIP registration for regular hunting seasons to develop a sampling frame. There is no current mechanism for the Service to require HIP registration for conservation order participants. Therefore, there no sampling frame exists from which to conduct a single, uniform Federal survey.

Comment 2: The commenter feels the Service has lied about increasing populations of light geese, promotes the killing of birds to increase hunting license sales, and only considers input from hunters and farmers.

Agency Response to Comment 2: Our long-term objectives continue to include providing opportunities to harvest portions of certain migratory game bird populations and to limit harvests to levels compatible with each population's ability to maintain healthy, viable numbers. Having taken into account the zones of temperature and the distribution, abundance, economic value, breeding habits, and times and lines of flight of migratory birds, we conclude that the hunting seasons are compatible with the current status of migratory bird populations and long-term population goals. With regard to the light goose conservation order, we documented the exponential growth of light goose populations when we authorized the conservation order (64 FR 7517 and 73 FR 65926). In those Federal Register notices, we also documented degradation to breeding habitats as a result of feeding actions of overabundant light goose populations. For that reason, we implemented the conservation order to increase harvest above that which occurs during regulator hunting seasons. Furthermore, we continue to annually document high population levels of light geese in our annual Waterfowl Status Report (https://www.fws.gov/migratorybirds/pdf/surveys-and-data/Population-status/Waterfowl/WaterfowlPopulationStatusReport17.pdf).

Additionally, we are obligated to, and do, seriously consider to all information received as public comment. While there are problems inherent with any type of representative management of public-trust resources, the Flyway Council system of migratory game bird management has been a longstanding example of State-Federal cooperative management since its establishment in 1952. Public input is provided not only at the Federal level but also at the State level and the input from State public processes is reflected in the Flyway system. Therefore, public involvement from hunters and non-hunters (including those that are not farmers) alike occurs at multiple levels. We disagree that input from the non-hunting, non-agricultural public is ignored. Furthermore, because the Federal government does not sell hunting licenses our actions associated with light goose management are not tied to selling additional hunting licenses. Because the light goose conservation order is not a hunting season, States do not require the purchase of a hunting license to participate and therefore cannot benefit from additional hunting license sales.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Migratory Bird Treaty Act (Act; 16 U.S.C. 703-712) implements the four bilateral migratory bird treaties the United States entered into with Great Britain (for Canada), Mexico, Japan, and Russia. The Act authorizes and directs the Secretary of the Interior to allow hunting, taking, etc., of migratory birds subject to the provisions of and in order to carry out the purposes of the four treaties. Section VII of the U.S.-Canada Migratory Bird Treaty authorizes the taking of migratory birds that, under extraordinary conditions, become seriously injurious to agricultural or other interests.

The number of light geese (lesser snow, greater snow, and Ross' geese) in the midcontinent region has nearly quadrupled during the past several decades, due to a decline in adult mortality and an increase in winter survival. We refer to these species and subspecies as light geese because of their light coloration, as opposed to dark geese, such as white-fronted or Canada geese. Because of their feeding activity, light geese have become seriously injurious to their habitat, as well as to habitat important to other migratory birds. This poses a serious threat to the short- and long-term health and status of some migratory bird populations. We believe that the number of light geese in the midcontinent region has exceeded long-term sustainable levels for their arctic and subarctic breeding habitats, and that the populations must be reduced. Title 50 of the Code of Federal Regulations (CFR) at part 21 provides authority for the management of overabundant light geese.

Regulations at 50 CFR 21.60 authorize States and Tribes in the midcontinent and Atlantic flyway regions to control light geese within the United States through the use of alternative regulatory strategies. The conservation order authorizes States and Tribes to implement population control measures without having to obtain a Federal permit, thus significantly reducing their administrative burden. The conservation order is a streamlined process that affords an efficient and effective population reduction strategy, rather than addressing the issue through our permitting process. Furthermore, this strategy precludes the use of more drastic and costly direct population-reduction measures such as trapping and culling geese. States and tribes participating in the conservation order must:

• Designate participants and inform them of the requirements and conditions of the conservation order. Individual States and Tribes determine the method to designate participants and how they will collect information from participants.

• Keep records of activities carried out under the authority of the conservation order, including:

(1) Number of persons participating in the conservation order;

(2) Number of days people participated in the conservation order;

(3) Number of light geese shot and retrieved under the conservation order; and

(4) Number of light geese shot, but not retrieved.

• Submit an annual report summarizing the activities conducted under the conservation order on or before September 15 of each year. Tribal information can be incorporated in State reports to reduce the number of reports submitted.

Title of Collection: Conservation Order for Light Geese, 50 CFR 21.60.

OMB Control Number: 1018-0103.

Form Number: None.

Type of Review: Extension of a currently approved collection.

Respondents/Affected Public: State and Tribal governments; individuals who participate in the conservation order.

Total Estimated Number of Annual Respondents: 21,577.

Total Estimated Number of Annual Responses: 21,577.

Estimated Completion Time per Response: 114 hours for State and Tribal governments and 8 minutes for individuals.

Total Estimated Number of Annual Burden Hours: 7,318.

Respondent's Obligation: Required to obtain or retain a benefit.

Frequency of Collection: Annually.

Total Estimated Annual Nonhour Burden Cost: $78,000, primarily for State overhead costs (materials, printing, postage, etc.) associated with mailing surveys to conservation order participants of approximately $2,000, or a total of $78,000 in non-hour burden costs (39 responses × $2,000).

An agency may not conduct or sponsor and a person is not required to respond to a collection of information unless it displays a currently valid OMB control number.

The authority for this action is the Paperwork Reduction Act of 1995 (44 U.S.C. 3501 et seq.).

Dated: December 11, 2017.
Madonna L. Baucum,
Information Collection Clearance Officer, U.S. Fish and Wildlife Service.

[FR Doc. 2017-27536 Filed 12-20-17; 8:45 am]

BILLING CODE 4333-15-P